DEPARTMENT OF COMMERCE

Foreign-Trade Zones Board

[B-69-2012]

Foreign-Trade Zone 230—Piedmont Triad Area, North Carolina; Notification of Proposed Production Activity, Sonoco Corrflex (Kitting—Gift Sets), Rural Hall and Winston-Salem, NC

The Piedmont Triad Partnership, grantee of FTZ 230, submitted a notification of proposed production activity on behalf of Sonoco Corrflex, located in Rural Hall and Winston-Salem, North Carolina. The notification conforming to the requirements of the regulations of the Foreign-Trade Zones Board (15 CFR 400.22) was received on August 20, 2012.

The Sonoco Corrflex facilities are located within Sites 24-27 of FTZ 230. The facilities are used for the kitting of cosmetic and personal hygiene gift sets. Production under FTZ procedures could exempt Sonoco Corrflex from customs duty payments on the foreign status components used in export production. On its domestic sales, Sonoco Corrflex would be able to choose the duty rates during customs entry procedures that apply to cosmetic and personal hygiene gift sets (duty rate range: free-6.5%) for the foreign status inputs noted below. Customs duties also could possibly be deferred or reduced on foreign status production equipment.

Components and materials sourced from abroad include: Perfumes/toilet waters, makeup preparations (lip, eye, rouge and powder), manicure/pedicure preparations, body lotion and moisturizers, skin toners and astringents, shampoos and conditioners, shaving/after-shave preparations, deodorants/anti-perspirants, bath salts, body wash/soaps, toners, cleaners, plastic travel containers, polymer bags, plastic packing, security tags, plastic lids/caps, bags and cases of textile materials (HTSUS 4202.22, 4202.32, 4202.92—such items included within certain categories will be admitted to FTZ 230 under domestic (duty-paid) status (19 CFR 146.43), as described in the notification document), other bags/sacks, loofahs, tissue paper, paperboard/corrugated wrappers and pads, pocket mirrors, glass bottles, imitation jewelry, sunglasses, stuffed toys, brushes, travel sets, combs, and makeup application pads (duty rate ranges from free to 8.1%; 2¢ each + 7.0%).

Public comment is invited from interested parties. Submissions shall be addressed to the Board's Executive Secretary at the address below. The closing period for their receipt is October 24, 2012.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Pierre Duy at Pierre.Duy@trade.gov, or (202) 482-1378.

Dated: September 7, 2012.
Andrew McGilvray,
Executive Secretary.

[FR Doc. 2012-22735 Filed 9-13-12; 8:45 am]

BILLING CODE P